DEPARTMENT OF ENERGY

Proposed Agency Information Collection

AGENCY: U.S. Department of Energy, DOE.

ACTION: Notice and Request for OMB Review and Comment.

SUMMARY: The Department of Energy (DOE) has submitted to the Office of Management and Budget (OMB) for clearance, a proposal for collection of information under the provisions of the Paperwork Reduction Act of 1995. The proposed collection will be used to report the progress of participants in the DOE Better Buildings Challenge (BBC) program. The Better Buildings Challenge is a presidential leadership initiative intended to drive greater energy efficiency in the commercial and industrial marketplace to create cost savings and jobs. This will be accomplished by highlighting the ways participants overcome market barriers and persistent obstacles with replicable, marketplace solutions. The program will showcase real solutions and partner with industry leaders to better understand policy and technical opportunities. President Obama launched the Better Buildings Challenge on December 2, 2011.

DATES: Comments regarding this collection must be received on or before April 25, 2012. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to Monica Neukomm, 202-586-8177, monica.neukomm@ee.doe.gov.

FOR FURTHER INFORMATION CONTACT: Monica Neukomm, 202-586-8177, monica.neukomm@ee.doe.gov.

SUPPLEMENTARY INFORMATION: This information collection request contains: (1) OMB No. {“New”}; (2) Information Collection Request Title: Department of Energy Better Buildings Challenge Information Collection Request; (3) Type of Request: New collection; (4) Purpose: The collected information will be used to report the progress of participants in the DOE Better Buildings Challenge (BBC) program; (5) Annual Estimated Number of Respondents: 130; (6) Annual Estimated Number of Total Responses: 1,714; (7) Annual Estimated Number of Burden Hours: 788; (8) Annual Estimated Reporting and Recordkeeping Cost Burden: $0.

Statutory Authority: Section 421 of the Energy Independence and Security Act of 2007 (42 U.S.C. 17081); Section 911 of the Energy Policy Act of 2005, as amended (42 U.S.C. 16191).

Issued in Washington, DC, on March 20, 2012.
Maria Tikoff Vargas,
Energy Technology Specialist, Better Buildings Challenge, Office of Energy Efficiency and Renewable Energy.

[FR Doc. 2012-7192 Filed 3-23-12; 8:45 am]

BILLING CODE 6450-01-P